NATIONAL SCIENCE FOUNDATION

Proposal Review Panel for Materials Research; Notice of Meeting

In accordance with the Federal Advisory Committee Act (Pub. L. 92-463 as amended), the National Science Foundation announces the following meeting:

Name: Proposal Review Panel for Materials Research (DMR) #1203.

Dates & Times: May 3, 2006; 7:45 a.m.-9:30 p.m. May 4, 2006; 8 a.m.-4 p.m.

Place: University of Pennsylvania, Philadelphia, PA.

Type of Meeting: Part Open.

Contact Persons: Dr. Mafia M. Kukla, Program Director, Materials Research Science and Engineering Centers, Division of Materials Research, Room 1065, National Science Foundation, 4201 Wilson Boulevard, Arlington, VA 22230, Telephone (703) 292-4940.

Purpose of Meeting: To provide advice and recommendations concerning further support of the Nanoscale Science and Engineering Center (NSEC).

Agenda: Wednesday, May 3, 2006

7:45 a.m.-8:45 a.m. Closed—Briefing of Site Visit Panel.

8:45 a.m.-12:15 p.m. Open—Welcome (Institutional representatives, etc).

12:15 p.m.-1:15 p.m. Closed—Lunch with students and postdocs.

1:15 p.m.-5 p.m. Open—Discussion.

5 p.m.-6:30 p.m. Closed—Executive Session.

6:30 p.m.-7:30 p.m. Open—Poster Session (limited number of posters).

7:30 p.m.-9:30 p.m. Closed—Dinner Meeting of Site Panel.

Thursday, May 4, 2006

8 a.m.-9 a.m. Closed—Executive Session.

9 a.m.-10:45 a.m. Open—Industrial Outreach and Other Collaborations.

10:45 a.m.-4 p.m. Closed—Executive Session.

Reason for Closing: The work being reviewed may include information of a proprietary or confidential nature, including technical informational financial data, such as salaries and personal information concerning individuals associated with the proposals. These matters are exempt under 5 U.S.C. 552b(c), (4) and (6) of the Government in the Sunshine Act.

Dated: April 5, 2006.
Susanne Bolton,
Committee Management Officer.

[FR Doc. 06-3397 Filed 4-7-06; 8:45 am]

BILLING CODE 7555-01-M